DEPARTMENT OF DEFENSE

Department of the Army; Corps of Engineers

Grant of Exclusive or Partially Exclusive Licenses

AGENCY: Department of the Army, Corps of Engineers, DoD.

ACTION: Notice.

SUMMARY: The Department of the Army, U.S. Army Corps of Engineers, announces the general availability of exclusive, or partially exclusive licenses for the pending patents listed under SUPPLEMENTARY INFORMATION. Any license granted shall comply with 35 U.S.C. 209 and 37 CFR part 404.

ADDRESSES: Humphreys Engineer Center Support Activity, Office of Counsel, 7701 Telegraph Road, Alexandria, VA 22315-3860.

DATES: Applications for an exclusive or partially exclusive license may be submitted at any time from the date of this notice. However, no exclusive or partially exclusive license shall be granted until January 2, 2003.

FOR FURTHER INFORMATION CONTACT: Patricia L. Howland (703) 428-6672.

SUPPLEMENTARY INFORMATION: 1. Title: Method and Device for Securing a Knot. A device for securing a knot in a tight condition in a cord includes a generally tubular member defining a longitudinal hole therethrough. The Tubular member includes a score line for dividing it into two sections by applying a bending or torsional force on the ends thereof. The tubular member further includes a longitudinal slit extending substantially through the thickness thereof. A pre-stretched elastomeric band is disposed around the tubular member.

Serial No.: 09/645,517.

Date: 8/25/2000.

2. Title: System and Method for Visually Calculating and Displaying the Status of an Account. A graphical user interface (GUI) is provided a user to facilitate entry and maintenance of accounting information. It requires little or no apriori knowledge of accounting principles and thus is amenable for use by unskilled personnel. The system incorporates a “put and take” methodology. By entering an amount in a cell, i.e., “putting,” a user establishes a balance within that cell. The balance may be reduced by associated amounts with arrows from that cell to another, i.e., “taking,” to indicate a transfer of all or part of that balance. Each cell may be color coded to enable a user to readily ascertain the status of various cells within the GUI representing accounting information of interest. Although money is a common commodity tracked via accounting, any commodity that needs to be tracked, including commercial goods, fungible items, or data representing scientific results.

Serial No.: 09/662,460.

Date: 9/15/2000.

3. Title: Intelligent Amplifier System. Provided is a system and method for concurrently adjusting parameters of a system incorporating separate devices. In a preferred embodiment, a series of amplifiers used in an instrumentation system are able to be adjusted and calibrated concurrently via a simple operation of an unskilled operator. One option provides for this adjustment to occur remotely from the devices.

Serial No.: 09/730,566.

Date: 12/07/2000.

4. Title: Survey Flag Positioning Method and Apparatus. A device for placing survey flags, and similar devices having stems, is operated so that the stem is locked or otherwise held to an elongated shaft or similar aligning device. Pressure on the shaft or aligning device forces a portion of the flag stem into the soil or other sound substrate. Then, an operator can carry out an operation to separate the placing device from the stem.

Serial No.: 09/779,051.

Date: 12/08/2001.

5. Title: Durable System for Controlling the Disposition of Expended Munitions Fired at a Target Positioned Close to the Shooter. To reduce ricochet and backsplash of material impacted by expended munitions at close range, behind a single target is placed a screen of durable internal elements that are much longer than they are wide. The long dimension of each of these internal elements is terminated on at least one of its ends in a tapered configuration. With the tapered configuration facing the shooter, the elements are stacked between durable strong blocks so as to support them. The stacking configuration and shape of the elements provide spaces between each element for debris and projectiles to be directed away from the shooter to a backstop located behind the screen. In a preferred embodiment the screen comprises a 2.4 m by 2.4 m by 1.2 m deep structure incorporating replaceable internal elements of concrete logs of about 15 cm diameter and 1.2 m length with a conical end section of length 30 cm.

Serial No.: 09/801,175.

Date: 3/05/2001.

6. Title: Device for Removing Sludge From The Bottom of a Lagoon. A device for removing sludge from a lagoon, includes an elongated frame including first and second end portions. The frame includes first and second laterally spaced runners defining a recess there between. A scoop is positioned in the recess and includes an inclined bottom. One of the first and second end portions includes an opening, which is in fluid communication with the scoop for allowing the sludge to flow therein. A pump is operably connected to the scoop for pumping the sludge collected in the scoop to a remote location.

Serial No.: 09/875,988.

Date: 06/08/2001.

7. Title: Scour Sensor Assembly. A system for efficiently and cost effectively monitoring the status of the interface between two dissimilar media is provided. The system uses principles applied from the theory of time domain reflectometry (TDR), together with novel circuitry and low cost narrow band telemetry, to provide real time monitoring on a continuous basis, as needed. The circuitry involved permits operation of the system without relying on relative values of signal amplitude and a novel feedback function that sets the pulse repetition frequency instantaneously to permit an optimum data collection rate as well as a separate measure of the status based on the system operating parameters. It has particular application to real time monitoring and alerting to the effect of scour events in.

Serial No.: 09/879,001.

Date: 6/13/2001.

8. Title: Ultra-wide Band Soil/Tire Interaction Radar. A radar system for vehicle tire testing and analysis may be mounted within the casing of a vehicle tire to measure the location of the inner casing of the tire (tire footprint). The radar system of the present invention may also be used to determine soil characteristics by analyzing the reflected signals. The present invention may have particular use in testing tires for use with on or off-road surfaces. However, the present invention may also be used to monitor tire deformation, traction, footprint, and soil characteristics.

Serial No.: 09/882,408.

Date: 6/15/2001.

9. Title: Device, and Method of its use, for Concurrent Real Time Alerting to Accumulation of Material Upon Multiple Areas of a Surface. A system is provided for detecting accumulation of material concurrently on multiple areas of a surface in real time. In one embodiment, it is used for detecting icing of airframes while in use or on the ground while awaiting use. It may use either Time domain Reflectometry (TDR) or Frequency Modulated Continuous Ware (FM-CW) sources to provide a known energizing signal to a transmission line sensor. The system ascertains the signals round trip travel time in the transmission line. As material accumulates around the transmission line sensor, the medium through which the signal propagates is indicated by the change in time for the signal to propagate in relation to propagation in a reference medium, e.g., air. By employing pre-specified spectral analysis algorithms and referencing to the dielectric constant of media of interest, a determination of the occurrence, located and the rate, and type of material accumulation can be made.

Serial No.: 10/015,784.

Date: 12/17/2001.

10. Title: Material, and Method of Producing it, for Immobilizing Heavy Metals Later Entrained Therein. Provided are an improved structural material for bullet traps and the like, a method of producing it, and a structure comprising it. The material is suitable for entraining and immobilizing projectiles and fine particles in a stick gel. It is prepared by mixing cement with a thickener to form a dry mixture. Water is mixed with a fine aggregate in a mixer. The dry mixture is combined with the aqueous mixture in the mixer to form a slurry. Calcium phosphate and an aluminum compound are added, mixing each separately until homogeneous. The density of the mixture is measured and an aqueous foam is added to adjust the density to a pre-specified level. Fibers are mixed into the adjusted mixture to form a homogeneous slurry that may be poured into a mold or in place at a construction site. Upon curing, the material may be used as a structural component.

Serial No.: 10/067,909.

Date: 02/08/2002.

11. Title: Nested Tapered Bags. Tapered bags are dispensed singly form a nested configuration. They may be made of plastic, paper, aluminum foil, or aluminum foil laminated with plastic. The bags are connected at the top by a strip that has a row of perforations between the strip and the top of each bag, the strips in turn attached to each other by conventional fasteners such as staples. The taper may be formed by folding the bags so that a dispensed bag may be unfolded to have a bottom as wide as the top. A row of closely spaced perforations along the connecting portion between any two bags allows a single outermost bag to be separated by pulling and tearing along the row of perforations.

Serial No.: 10/086,702.

Date: 3/04/2002.

12. Title: Modular Barrier System for Satisfying Needs Unique to a Specific User. Provided are components, a system, and method of implementing the system, for controlling access and egress. In a preferred embodiment, the user's requirements are considered in providing a properly scaled barrier for such varied uses as security, safety, order, privacy, and discipline. In one embodiment, pre-manufactured panels and connectors are delivered to a site that has been properly prepared for installation of the system. Local materials may be used for the panels in some cases. The panels and connectors may be assembled quickly by unskilled labor and, in some embodiments, the barrier just as quickly dismantled or repaired as necessary. One embodiment may be used as a temporary or emergency solution to access control. Another embodiment may be used in a residential setting, providing storage in some installations. In all embodiments, accessories for enhancing effectiveness may be installed on or within the barrier.

Serial No.: 01/096,922.

Date: 03/14/2002.

13. Title: System and Method for Bioremediating Wastestreams Containing Energetics. A bioremediation system converts a waste stream, at least part of which is a fluid containing energetics, to carbon dioxide (CO2), water and environmentally benign end products. It uses gas-enhanced sequencing-batch-reactors 9SBRs), treating the waste stream in three SBRs seriatim. The first SBR uses a nitrogen purge, the second a hydrogen gas supplement, and the third an oxygen gas or forced air supplement. Each reactor may be supplemented with additives to optimize conditions such as pH, dissolve oxygen, and nutrient level. The system may be implemented under manual control, semi-automated, or fully automated, as needed. A waste stream of consideration is the pink water resultant from munitions fabrication and handling.

Serial No: 10/096,659.

Date: 3/14/2002.

14. Title: Process and System for Treating Waste From the Production of Energetics. A waste stream from energetics processing is treated using a pre-filter having media, preferably sand, and a metal that has a reducing potential, preferably elemental iron (Fe⁰). The pre-filter is connected to a zero-valent metal column reactor. The waste stream is pumped through the pre-filter to trap solids and deoxygenate it, then enters the reactor and is subjected to a reducing process. Most of the Fe² is transformed to the ferrous ion (Fe+²), added to the resultant products, and fed to a continuous stirred tank reactor (CSTR) in which Fenton oxidation occurs. This product is then sent to a sedimentation tank and pH-neutralized using a strong base such as sodium hydroxide (NaOH). The aquesous portion is drawn off and the sludge pumped from the sedimentation tank. Both tanks are monitored and controlled to optimize required additives, while monitoring of pressure drop across the pre-filter and column reactor establishes replacement requirements.

Serial No.: 10/097,089.

Date: 3/14/2002.

15. Title: Reactive Geocomposite for Remediating Contaminated Sediments. In one application for remediating sediments, employing a geocomposite sheet eliminates the need for a thick cap or removal and subsequent ex situ treatment of the sediment. A geocomposite with at least one layer of reactive material is placed over the area to be remediated. A layer of available surcharge materials such as sand, gravel, or riprap covers the geocomposite. The weight of the surcharge materials causes pore water to flow from the sediment through the reactive layer or layers of the geocomposite. Contaminants may be trapped in this reactive layer or layers. A top or bottom layer, or both a top and bottom layer, may be provided to inhibit incursion from outside the sediment layer, while permitting appropriate flow direction or pore water into the reactive layer or layers.

Serial No.: 10/115,088.

Date: 4/04/2002.

16. Title: System and Method for Determining Status of an Object by Insonification. A flexible piezoelectric-based transducer, mounted on a circumference of a rotating object senses acoustical energy traversing portions of the object. In a preferred embodiment, the transducer is affixed, using a suitable adhesive, within the enclosed portion of a wheel/tire assembly. The transducer sense acoustical energy, e.g., ultrasonic transmissions, generated by the tire contracting the road surface at its contact patch and, without need of external power, translates it to an electrical current and communicates it for further processing. Because the acoustical impedance of the tire casing changes with temperature, hot spots within the tire, as well as other characteristics of the tire's operation, can be detected. Further, any Doppler shift, which occurs due to the rotating medium may be compensated for since the rate of tire rotation may be made known via a speed sensor. A position sensor may also be employed to indicate the position of the hot spot.

Serial No.: 10/118,001.

Date: 4/09/2002.

17. Title: Apparatus and Methods For Determining Self-Weight Consolidation And Other Properties of Media. Provided is a consolidometer and methods of its use. In its preferred embodiment, the device and methods permit accurate and convenient laboratory sampling of the self-weight consolidation of media, such as soft soil and soil slurries that may result from dredging operations. One option also provides for attaching sensors at locations along the consolidometer for taking data on additional characteristics of the media.

Serial No.: 10/118,012.

Date: 4/09/2002.

18. Title: System and Method for Separate Devices Concurrently. Within a few seconds, parameters of separate devices within a system may be adjusted concurrently. In one embodiment, multiple amplifers used in an instrumentation system are able to be biased and calibrated concurrently with final stage gain control via a simple operation of an unskilled operator. Remote adjustment of devices is also possible.

Serial No.: 10/139,373.

Date: 5/07/2002.

19. Title: Electro-Osmotic Pulse (EOP) System Incorporating a Durable Dimensionally Stable Anode and Method of use Therefore. A system and method for treating porous material, e.g., concrete, brick, or other masonry material, via electroosmosis. One application carries dehydration to an extend that it weakens a structure for demolition by significantly dehydrating its structural material. A durable, dimensionally stable anode is affixed to the structure and attached to a wire from a DC power supply. The anode is composed of a value metal substrate with a semi-conductive coating of a precious metal, cement or ceramic. Connection to a cathode through the power supply completes the circuit. A DC voltage is applied to the concrete structure by cycling a prespecified pulse train from the power supply. One pulse train consists of an initial positive pulse followed by a shorter duration negative pulse and ends with a short off period before the pulse train is reinitiated. The cycle continues until the porous material has been determined to be sufficiently treated.

Serial No.: 10/140,875.

Date: 5/09/2002.

20. Title: Method and Apparatus for Treating Volatile Organic Compounds, Odors and Biodegradable Aerosol/Particulates In Air Emissions. A biofilter reactor included a housing, an axial pipe ratably supported in the housing and including a plurality of perforations that open into the interior of the housing for collecting a treated fluid. The axial pipe includes an outlet in communication with the interior thereof for removing the treated fluid from the housing. A porous medium is disposed about the axial pipe and is rotatable therewith. The porous medium is made of a microbial foam.

Serial No.: 09/881,188.

Date: 6/15/2001.

21. Title: Roll of Tapered Bags Suitable for Dispensing Bags Singly. Tapered bags are dispensed singly from a roll. They may be made of plastic, paper, aluminum foil, or aluminum foil laminated with plastic. The bags are connected on the roll alternately top-to-top and bottom-to-bottom. Each bag is tapered towards its bottom such that its top-to-top connection with the next bag is wider than the bottom-to-bottom connection. The taper may be formed by folding the bags so that a dispensed bag may be unfolded to have a bottom as wide as the top. Each bottom-to-bottom connection separates the bags along a row of perforations adjacent to a sealed seam of each bag that defines the bag and insures its integrity. A row of closely spaced perforations along the connecting portion between any two bags allows a single end bag to be separated by pulling and tearing along the row of perforations.

Serial No.: 10/086,731.

Date: 3/04/2002.

Richard L. Frenette,
Counsel.

[FR Doc. 02-25181 Filed 10-2-02; 8:45 am]

BILLING CODE 3810-92-M